NUCLEAR REGULATORY COMMISSION

[NRC-2023-0112]

Discontinuation of the State of New York's Sealed Source and Device Evaluation and Approval Authority

AGENCY: Nuclear Regulatory Commission.

ACTION: Discontinuation of the State of New York's regulatory authority and reassumption of U.S. Nuclear Regulatory Commission's authority.

SUMMARY: Notice is hereby given that effective August 9, 2023, the U.S. Nuclear Regulatory Commission (NRC) has assumed regulatory authority to evaluate and approve sealed source and device (SS&D) applications in the State of New York and approved the Governor of the State of New York's request to relinquish this authority.

DATES: The NRC has assumed regulatory authority for evaluating and approving SS&D applications on August 9, 2023.

ADDRESSES: Please refer to Docket ID NRC-2023-0112 when contacting the NRC about the availability of information regarding this document. You may obtain publicly available information related to this document using any of the following methods:

• Federal Rulemaking Website: Go to https://www.regulations.gov and search for Docket ID NRC-2023-0112. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Robert Johnson, Office of Nuclear Material Safety and Safeguards, U.S. Nuclear Regulatory Commission, Washington, DC 20555-0001, telephone: 301-415-7314, email: Robert.Johnson@nrc.gov.

SUPPLEMENTARY INFORMATION: Section 274b. of the Atomic Energy Act (AEA) of 1954, as amended, provides the authority for NRC to enter into agreements with States that allow the States to assume, and the NRC to discontinue, regulatory authority over specified AEA radioactive materials and activities. On October 15, 1962, New York entered a section 274b. Agreement with the Atomic Energy Commission (the predecessor regulatory agency to the NRC) to regulate source material, byproduct material, and special nuclear material in quantities not sufficient to form a critical mass. This Agreement also provides the State regulatory authority to evaluate and approve SS&D applications.

On May 9, 2023, the NRC received a letter from New York Governor Kathy Hochul (ADAMS Accession No. ML23131A254) requesting discontinuation of the State's regulatory authority to evaluate and approve SS&D applications and for reassumption of this authority by the NRC. The Commission approved the request and has notified the State of New York that effective August 9, 2023, the NRC has reassumed authority to evaluate and approve SS&D applications within the State (ADAMS Accession No. ML23138A033). The State of New York will retain authority to regulate the manufacture and use of SS&Ds within the State in accordance with its section 274b. Agreement with the NRC.

Dated: August 3, 2023.
For the Nuclear Regulatory Commission.
Brooke P. Clark,
Secretary of the Commission.

[FR Doc. 2023-16932 Filed 8-9-23; 8:45 am]

BILLING CODE 7590-01-P